DEPARTMENT OF HEALTH AND HUMAN SERVICES

Centers for Disease Control and Prevention

[30Day-24-24HP]

Agency Forms Undergoing Paperwork Reduction Act Review

In accordance with the Paperwork Reduction Act of 1995, the Centers for Disease Control and Prevention (CDC) has submitted the information collection request titled “Compliance Attestation Statement for the Framework for Nucleic Acid Synthesis Screening” to the Office of Management and Budget (OMB) for review and approval. CDC previously published a “Proposed Data Collection Submitted for Public Comment and Recommendations” notice on July 24, 2024 to obtain comments from the public and affected agencies. CDC did not receive comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Compliance Attestation Statement for the Framework for Nucleic Acid Synthesis Screening—New—Office of Science (OS), Centers for Disease Control and Prevention (CDC).

Background and Brief Description

The purpose of this Attestation Form is to assist providers of synthetic nucleic acids (Providers) and manufacturers of benchtop nucleic acid synthesis equipment (Manufacturers) in making an attestation that they are performing due diligence in screening product orders and customers consistent with the expectations outlaid in the federal Framework for Nucleic Acid Synthesis Screening (Framework). While Providers and Manufacturers may choose a different mode to make such an attestation, this Attestation Form serves as a valid template. This statement of attestation will provide the U.S. Federal Government and researchers using any United States Government life sciences research award (e.g., research grant, contract, etc.) for procurement of synthetic nucleic acids or benchtop nucleic acid synthesis equipment reasonable assurance that Providers and Manufacturers are complying with the Framework.

CDC requests OMB approval for an estimated 20 annual burden hours. There are no costs to respondents other than their time to participate.

Estimated Annualized Burden Hours

Type of respondents | Form name | Number of respondents | Number of responses per respondent | Average burden per response (in hours)
Providers and manufacturers of synthetic nucleic acids and bench top nucleic acid synthesis equipment | Annual Provider and Manufacturer Self-Attestation Statement | 60 | 1 | 20/60

Jeffrey M. Zirger,
Lead, Information Collection Review Office, Office of Public Health Ethics and Regulations, Office of Science, Centers for Disease Control and Prevention.

[FR Doc. 2024-21981 Filed 9-25-24; 8:45 am]

BILLING CODE 4163-18-P